DEPARTMENT OF COMMERCE

National Oceanic and Atmospheric Administration

[RTID 0648-XD422]

Endangered Species; File No. 23096

AGENCY: National Marine Fisheries Service (NMFS), National Oceanic and Atmospheric Administration (NOAA), Commerce.

ACTION: Notice; receipt of application for a permit modification.

SUMMARY: Notice is hereby given that the University of Georgia, Warnell School of Forestry and Natural Resources, 180 E Green Street, Athens, GA 30602 (Responsible Party: Dale Greene, Ph.D.) has requested a modification to scientific research Permit No. 23096.

DATES: Written comments must be received on or before October 30, 2023.

ADDRESSES: The modification request and related documents are available for review by selecting “Records Open for Public Comment” from the Features box on the Applications and Permits for Protected Species (APPS) home page, https://apps.nmfs.noaa.gov, and then selecting File No. 23096 Mod 6 from the list of available applications. These documents are also available upon written request via email to NMFS.Pr1Comments@noaa.gov.

Written comments on this application should be submitted via email to NMFS.Pr1Comments@noaa.gov. Please include File No. 23096 in the subject line of the email comment.

Those individuals requesting a public hearing should submit a written request via email to NMFS.Pr1Comments@noaa.gov. The request should set forth the specific reasons why a hearing on this application would be appropriate.

FOR FURTHER INFORMATION CONTACT: Malcolm Mohead or Erin Markin, Ph.D., (301) 427-8401.

SUPPLEMENTARY INFORMATION: The subject modification to Permit No. 23096, issued on January 31, 2020 (85 FR 7978, February 12, 2020), is requested under the authority of the Endangered Species Act of 1973, as amended (16 U.S.C. 1531 et seq.) and the regulations governing the taking, importing, and exporting of endangered and threatened species (50 CFR parts 222-226).

Permit No. 23096 authorizes the permit holder to: quantify population dynamics and seasonal habitat of Atlantic and shortnose sturgeon in Georgia and Florida river systems and estuaries [i.e., Savannah GA), Altamaha (GA), Ogeechee (GA), Satilla (GA), St. Marys (GA, FL), Nassau (FL) and St. Johns River systems (FL)]. Researchers may capture (by gillnet or trammel net), tag (passive integrated transponder, internal acoustic, and dart), anesthetize, genetic fin clip, fin ray clip, measure, weigh, photograph/video, blood sample, and laparoscopically biopsy gonads of juvenile, sub-adult, and adult Atlantic and shortnose sturgeon. Early life stages of each species may be lethally sampled to document occurrence of spawning in systems. Up to two sturgeon of each species may unintentionally die annually in each river system during sampling activities, excluding the Satilla, St Marys, and St. Johns Rivers. The permit holder now requests: (1) increasing the numbers of Atlantic and shortnose sturgeon internally tagged with acoustic transmitters. In the Ogeechee River the numbers of adult/subadult Atlantic and shortnose sturgeon internally tagged would increase from 10 to 20 and 5 to 20, respectively. In the Altamaha River the numbers of adult/subadult Atlantic and shortnose sturgeon internally tagged would increase from 15 to 25 and 10 to 30, respectively. (2) adding apical scute sampling to the same adult/sub-adult and juvenile Atlantic and shortnose sturgeon taken in each river system to compare ageing results from fin rays sampling. Micronutrient analysis of the scute sample would also be conducted to compare trace historic movement patterns of species captured in each river system annually; and (3) adding epidermal mucus sampling to the same adult/subadult and juvenile Atlantic and shortnose sturgeon taken in each river system annually to address new objectives to differentiate between sturgeon species and sex using metabolomic analysis. The permit expires January 31, 2030.

Dated: September 25, 2023.
Julia M. Harrison,
Chief, Permits and Conservation Division, Office of Protected Resources, National Marine Fisheries Service.

[FR Doc. 2023-21501 Filed 9-28-23; 8:45 am]

BILLING CODE 3510-22-P